DEPARTMENT OF LABOR

Employment and Training Administration

Notice of Availability of Funds and Solicitation for Grant Applications (SGA) for Community-Based Job Training Grants

Announcement type: Notice of Solicitation for Grant Applications.

Funding Opportunity Number: SGA/DFA PY 08-02.

Catalog of Federal Domestic Assistance Number: 17.269.

Key Dates: The closing date for receipt of applications under this announcement is November 24, 2008. Applications must be received at the address below no later than 4 p.m. (Eastern Time). Application and submission information is explained in detail in Part IV of this SGA. A Virtual Prospective Applicant Conference will be held for this grant competition on October 24, 2008 at 1 p.m. Eastern Time. Additional information and links to registration for the Virtual Prospective Applicant Conference will be posted on ETA's Web site at http://www.doleta.gov/business/Community-BasedJobTrainingGrants.cfm.

SUMMARY: The Employment and Training Administration (ETA), U.S. Department of Labor (DOL), announces the availability of approximately $125 million in grant funds for Community-Based Job Training Grants.

Community-Based Job Training Grants will be awarded through a competitive process to support workforce training for high-growth/high-demand industries through the national system of community and technical colleges. Funds will be awarded to individual community and technical colleges, community college districts, state community college systems, and One-Stop Career Centers to support or engage in a combination of capacity building and training activities for the purpose of building the capacity of community colleges to train individuals for careers in high-growth/high-demand industries in the local and/or regional economies. This Solicitation contains an exception for rural areas and other communities that are educationally underserved due to their lack of access to community or technical colleges.

In awarding Community-Based Job Training Grants, every effort will be made to fairly distribute grants across rural and urban areas and across the different geographic regions of the United States. It is anticipated that individual awards will range from $500,000 to $2 million.

This Solicitation provides background information and describes the application submission requirements, outlines the process that eligible entities must use to apply for funds covered by this Solicitation, and details how grantees will be selected.

ADDRESSES: Mailed applications must be addressed to the U.S. Department of Labor, Employment and Training Administration, Division of Federal Assistance, Attention: Chari Magruder, Reference SGA/DFA PY 08-02, 200 Constitution Avenue, NW., Room N-4716, Washington, DC 20210. Telefacsimile (FAX) applications will not be accepted. Information about applying online can be found in Section IV.C of this document. Applicants are advised that mail delivery in the Washington area may be delayed due to mail decontamination procedures. Hand delivered proposals will be received at the above address.

SUPPLEMENTARY INFORMATION: This solicitation consists of eight parts:

• Part I is the funding opportunity description that includes background information on the topics of: Globalization, regional innovation, economic competitiveness, and talent development; the Employment and Training Administration's strategic workforce investment strategies; and a description of the critical elements of Community-Based Job Training Grants.

• Part II describes the size and nature of the anticipated awards.

• Part III describes eligibility information and other grant specifications.

• Part IV provides information on the application and submission process.

• Part V describes the criteria against which applications will be reviewed and evaluated, and explains the proposal review process.

• Part VI provides award administration information.

• Part VII contains DOL agency contact information.

• Part VIII lists additional resources of interest to applicants.

• Attachment A provides grantees with a template for a Memorandum of Agreement that they can submit with their proposal regarding a grant evaluation.

I. Funding Opportunity Description

The Community-Based Job Training Grants (CBJTGs) are designed to support workforce training for high-growth/high-demand industries through the national system of community and technical colleges. The primary purposes of these grants are to build the capacity of community colleges to provide training and to train workers to develop the skills required to succeed in local or regional (i) industries and occupations that are expected to experience high-growth and (ii) industries where demand for qualified workers is outstripping the supply. Part A provides an overview of globalization, regional innovation and economic competitiveness and ETA's transformational vision of talent development in a regional economy; and Part B describes the critical elements of CBJTGs.

A. Background

1. Globalization, Regional Innovation and Economic Competitiveness

In the 21st Century global economy, talent development is a key factor in our nation's competitiveness. Global competition is typically seen as a national challenge. In reality, regions are where companies, workers, researchers, entrepreneurs and governments come together to create and contribute to our nation's competitive advantage in the global marketplace. That advantage rests on the ability to transform new ideas and new knowledge into advanced, high quality products or services—in other words, to innovate.

Regions that are successful in creating a competitive advantage demonstrate the ability to organize people, institutions, capital, and infrastructure to generate growth and prosperity in the region's economy. In the new global economy, a region's ability to develop, attract, and retain a well-educated and skilled workforce is a key factor in our nation's economic competitiveness.

Maximizing the impact of talent development activities requires strong strategic partnerships composed of individuals and organizations that act in concert to transform the regional economy, including: The workforce investment system; employers; educators and training providers (such as community and technical colleges); economic development entities; local, regional, and state government; the philanthropic community; faith-based and community organizations; research institutions; and other civic leaders with a stake in economic growth and talent development. These strategic partnerships should focus on systemic solutions that address short-term challenges while contributing to long-term talent development and economic growth.

A regional approach to talent development brings together all the key players in a region to leverage their collective public and private sector assets and resources, and to devise strategies that focus on infrastructure, investment, and talent development. It incorporates demand-driven skills development into the region's larger economic development, and integrates workforce development, economic development, and education efforts into a comprehensive system that is both flexible and responsive to the needs of business and workers.

ETA has modeled the role of strategic partnerships in demand-driven workforce investment through the High Growth Job Training Initiative (HGJTI). Through the HGJTI, ETA identifies high-growth, high-demand industries; evaluates their skill needs; and funds local and national partnership-based demonstration projects that provide workforce solutions to ensure that individuals can gain the skills to get good jobs with career pathways in rapidly expanding or transforming industries. CBJTGs address one of the key workforce issue areas for many high growth industries, lack of educational capacity. CBJTGs build the capacity of the nation's community college system to train workers in the skills required to succeed in high growth, high demand industries. ETA seeks to ensure that these investments are fully connected to broader talent development strategies that are critical to regional economic growth.

The CBJTGs continue to build upon the work of the HGJTI by incorporating its focus on high-growth, high-demand industries and its emphasis on the role of strategic partnerships in workforce development while addressing the critical capacity constraints of community colleges.

Businesses in high-growth, high-demand industries face increasing difficulties in finding workers with the right skills. According to the Bureau of Labor Statistics, ninety percent of the fastest growing jobs in the United States require some level of education or training beyond high school. The accessibility and affordability of community college training, combined with the adaptability of community college curricula to changing skill needs, make community colleges a vital training resource for many U.S. workers. Furthermore, community colleges are closely connected to local and regional labor markets, making them well-positioned to prepare workers for good jobs with good wages in their regional economy.

However, community college leaders and industry executives report that many community colleges are unable to meet the demand for training in their region because of critical capacity constraints. These capacity constraints occur when community colleges lack sufficient resources to support training facilities and equipment, curriculum development, faculty appointments, clinical experiences, and/or other elements that are necessary to provide either the volume or quality of training that industry requires. Despite rising application rates, the reality of current state and local budgets often prevent community colleges from funding the programs, faculty, and student services needed to be responsive to regional workforce demands.

Similar to the HGJTI, CBJTGs highlight the critical role community colleges play as key strategic partners in a demand-driven workforce investment system, and the need for strong integration of industry driven training initiatives to broader talent development strategies in regional economies.

Recognizing the growing need for regional economic competitiveness in the global economy, ETA has continued to evolve its strategies for supporting strategic workforce development. Through the Workforce Innovation in Regional Economic Development (WIRED) initiative, ETA supports broad regional partnerships as they expand employment and advancement opportunities for American workers and catalyze the creation of high-skill and high-wage opportunities in regional economies. To optimize innovation and successful regional economic transformation, the WIRED strategic framework brings together all the key players in a region to leverage their collective public and private sector assets and resources, and to devise strategies that focus on infrastructure, investment, and talent development.

The WIRED strategic framework supports regions in incorporating demand-driven talent and skills development into their larger economic strategies and integrating workforce development, economic development, and education efforts into a comprehensive system that is both flexible and responsive to the needs of business and workers. More information and tools to help implement a WIRED strategic framework can be found at: http://www.doleta.gov/WIRED.

B. Critical Elements of Community-Based Job Training Grants

It is ETA's expectation that CBJTGs will contain at least seven critical elements. These elements consist of: (1) A focus on skill and competency needs of high-growth/high-demand industries that are locally defined in the context of the regional economy; (2) strategic partnerships; (3) industry-driven capacity building and training efforts; (4) leveraged resources; (5) replication of successful models for broad distribution; (6) clear and specific outcomes; and (7) integration with regional economic and talent development strategies. These characteristics are reflected in the evaluation criteria in Part V and are described in further detail below.

1. Focus on Skill and Competency Needs of High-Growth/High-Demand Industries as locally defined in the context of the regional economy. The Workforce Investment Act of 1998 (Pub. L. 105-220) (WIA) emphasizes a workforce system driven by the needs of local employers. In order for America to remain competitive in the global economy, it is essential that ETA target its investments to support employers in high-growth/high-demand industries. Community colleges, Workforce Investment Boards, and One-Stop Career Centers play a vital role in this effort by understanding the workforce needs of these industries and providing training and other services to address those needs.

A high-growth/high-demand industry meets one or more of the following criteria: (1) Is projected to add substantial numbers of new jobs to the economy; (2) has a significant impact on the economy overall; (3) impacts the growth of other industries; (4) is being transformed by technology and innovation requiring new skill sets for workers; or (5) is a new and emerging business that is projected to grow. CBJTGs will support industry demand for training in local or regional high-growth/high-demand industries. Regions are typically defined as geographically contiguous areas and can include multiple counties and cities and cross state lines. A range of factors contribute to the formation of a region, including economic interdependence (such as a common industry or industries) and shared assets (such as human capital, research and development entities, educational institutions, and airports and other types of infrastructure). ETA encourages applicants to define local high-growth industries in the context of their regional economy by illustrating how the industry is aligned with and fits into the region's economic development activities.

2. Strategic Partnerships. ETA believes that strategic partnerships between community colleges; the workforce investment system, including One-Stop Career Centers; business and industry; and the continuum of education, including the K-12 system, adult education, and four-year colleges and universities need to be in place in order to implement effective demand-driven training and capacity building strategies. These strategic partnerships may have a local, regional, or statewide focus, and may include a consortium of partners or cross-industry representatives. Specific requirements for strategic partnerships are outlined in Section III.C.1 and in the exception detailed in Section III.C.5. These strategic partnerships should focus broadly on the workforce challenges of one or more high-growth, high-demand industries and work collaboratively to identify and implement solutions to those challenges. Solutions should include, among others, strategies to increase the capacity of community colleges to educate and train more workers with industry-defined skills and competencies. Therefore, the investment in community college capacity building would be one of many strategies and solutions that evolve from the partnership. While ETA welcomes applications from newly formed strategic partnerships, applicants are advised that grant funds may not be used for partnership development.

In order to maximize the long-term success of the proposed solution and to keep pace with the rapid changes in the economy and the nature of the skills and competencies necessary for work in these industries, these partnerships need to be substantial and sustained. ETA encourages partners to plan for the partnership's sustainability beyond the CBJTGs investment period to enable ongoing assessment of industry workforce needs and collaborative development of solutions on a continual basis.

Within the context of the broader strategic partnership and as it relates to this grant, each collaborative partner should have clearly defined roles. These roles must be verified through a letter of commitment submitted by each partner. The letter of commitment must detail the role the partner will play in the project, including specific responsibilities and resources committed, if appropriate. The exact nature of these roles may vary depending on the issue areas being addressed and the scope and nature of the activities undertaken. However, ETA expects that employers, education and training providers, and the workforce system will contribute to the partnership in the following ways as outlined below. In addition, applicants are also encouraged to partner with faith-based and community organizations, as described below:

a. Employers must be actively engaged in the project and should participate fully with other key partners in grant activities including: defining the program strategy and goals; identifying needed skills and competencies; designing training approaches and curricula; implementing the program; contributing financial support; and, where appropriate, hiring qualified training graduates.

b. Education and training providers, including K-12 (elementary, middle, and high schools, as well as career and technical high schools), adult education, community and technical colleges, four-year colleges and universities, and other training entities, are important foundational partners to ensure the project's activities are tied to the broader continuum of education in the region. These entities assist in developing and implementing industry-driven workforce education strategies in partnership with employers that include competency models, curricula, and new learning methodologies, including technology-based learning.

c. The workforce investment system, which may include State and Local Workforce Investment Boards, State Workforce Agencies, and One-Stop Career Centers and their cooperating partners, as such terms are defined under WIA, may play a number of roles, including: Identifying and assessing candidates for training; working collaboratively to leverage WIA investments; referring qualified candidates to the community college for enrollment in training programs; providing access to wrap-around supportive services, when appropriate; and connecting qualified training graduates to employers that have existing job openings. Additionally, the workforce investment system in general, and One-Stop Career Centers in particular, have substantive experience in tracking the outcomes of program participants. One-Stop Career Centers may coordinate, provide support, or manage the tracking of training recipients for the performance management aspect of the CBJTGs. State labor market information systems are a valuable source of information on regional workforce needs. ETA encourages applicants to utilize these systems both as they develop their proposals and as part of their ongoing efforts to understand the workforce needs of their regional economies.

d. ETA also encourages applicants to partner with faith-based and community organizations to serve populations with barriers to employment. Faith-based and community organizations often possess the compassion, commitment and expertise needed to prepare and mentor people in search of employment. These organizations also possess an intimate knowledge of the community, its resources and potential program participants. Faith-based and community organizations can provide a variety of services to help populations with barriers to employment prepare for, enter, and stay in the labor market, such as: Assessment of skills and barriers to employment, case management, mentoring, English language acquisition, and job retention services, among others. Faith-based and community organizations can also provide wrap-around, holistic, and comprehensive support services where appropriate, such as employability skills training, life skills training, job retention support, family support services and career awareness activities.

Faith-based and community organizations can also be effective partners in serving populations with barriers to employment. Populations with barriers to employment are prevalent in regional economies around the country, and include groups such as ex-offenders, individuals with disabilities, veterans, and older workers. In many communities these populations are key non-traditional labor pools that can help employers address their pressing workforce challenges, but may not be fully utilized by regional employers. ETA encourages applicants to identify specific faith-based and community organizations with whom they will collaborate; outline the specific role these organizations will play in their project and demonstrate how partnerships with faith-based and community organizations are part of the regional training efforts that are included in their project; and discuss how these partnerships will help populations with barriers to employment receive training in high-growth, high-demand industries.

3. Industry-Driven Capacity Building and Training Efforts. Under CBJTGs, community colleges, or other entities as specified in the exception detailed in Section III.C.5, must develop and implement a combination of capacity building and training activities that target skills and competencies demanded by local high-growth/high-demand industries as defined in the context of the region's economy. Applicants are not limited in the strategies and approaches they may employ to implement college capacity building and training strategies, provided the activities meet the following requirements:

a. Training. Training activities must: (1) Be provided by a community or technical college, except as specified in Section III.C.5 of this Solicitation; (2) occur within the context of workforce education that supports long-term career growth, such as an articulated career ladder/lattice; and (3) result in credentials that are industry-recognized and indicate a level of mastery and competence in a given field or function. Please note, when using credentials, CBJTGs must follow the definition of credential and (if applicable) certificate in Attachment B to TEGL 17-05 on Common Measures, found at: http://wdr.doleta.gov/directives/attach/TEGL17-05_AttachB.pdf.

The credential awarded to participants upon completion should be based on the type of training provided through the grant and the requirements of the targeted occupation, and should be selected based on consultations with industry partners. For example:

i. Customized and short-term training should result in a performance-based certification or credential. This certification may be developed jointly by employers and the community college, based on defined knowledge and skill requirements for specific high-demand occupations/functions. Performance-based certifications may also be based on industry-recognized curriculum and standards.

ii. Training in information technology, allied health professions, and other fields with established professional standards and examinations should result in certification or appropriate licensure.

iii. In states where licensure is required for the specific occupation targeted by the training, the credentialing requirement should take licensing requirements into account.

iv. In some instances, credential attainment may not occur prior to the end of the grant period due to the length of the training program. For example, training provided under CBJTGs may lead to a degree after the grant program is over. In these instances, college credit for each course leading to a Certificate or an Associates or Applied Associates degree will meet the program's credential requirement.

b. Capacity Building. CBJTGs applicants are encouraged to broadly assess their capacity to meet the training needs of the targeted high-growth/high-demand industry or industries. Proposed capacity building strategies are expected to address significant barriers which impede the ability of the community college, or other entity as specified in the exception detailed in Section III.C.5, to meet local and regional industry demand for workforce training as well as increase the capacity of the college to provide training resulting in an increase in the pipeline of skilled workers ready for employment or promotion in the regional economy. These strategies should not simply address isolated deficits, but rather provide a comprehensive solution to identified capacity challenges as they relate to the industry or industries of focus. Additionally, to avoid duplication, applicants are encouraged to align and leverage their proposed capacity building activities with existing curricula, competency models and other frameworks developed by existing HGJTI and CBJT grantees.

Examples of capacity building activities include, but are not limited to:

i. The development or adaptation of competency models and curricula to support training;

ii. The development of innovative curricula, teaching methods and instructional design to maximize the impact of the initiative in meeting the skills needs of employers;

iii. Innovative strategies to ensure availability of qualified and certified instructors;

iv. Procurement of equipment and simulation equipment necessary to train to industry-demanded skills;

v. Support for clinical experiences required for certification or licensure; or

vi. Development of technology-based distance learning curricula and programs to promote better access to education and training programs.

Capacity building activities must meet two criteria: (1) The proposed capacity building efforts must be directly linked to the specific training supported under the grant; and (2) grantees must use their grant funds in a manner consistent with the regulations and policies governing use of funds under Section 171(d) of WIA, which broadly allows the funds to be utilized to test an array of approaches to the provision of training services and supports the development and replication of effective training strategies. Applicants are strongly encouraged to review Section 171(d) of WIA and to review allowable types of capacity building activities under Federal funds. Grantees may not utilize Federal funds on unallowable activities, even if those activities are written in a successful application, and any such activities will need to be removed from a grant statement of work.

In their capacity building and training activities, ETA encourages CBJTGs applicants, particularly those serving rural areas and other areas that are educationally underserved due to lack of access to community colleges, to look at technology-based distance learning options when building their capacity to provide training. Technology-Based Learning (TBL) is transforming the way people learn and can increase the geographic reach of training. TBL can be defined as the learning of content via all electronic technology, including the Internet, intranets, satellite broadcasts, audio and video tape, video and audio conference, Internet conferencing, chat rooms, bulletin boards, Web casts, computer-based instruction and CD-ROM. It encompasses related terms, such as online learning, Web-based learning, computer-based learning and e-learning. For example, a college may convert industry-specific curricula typically offered in traditional classroom settings to technology-based learning (e-learning or online) or develop technology-based learning training programs so that dislocated workers, incumbent workers, and/or new job entrants can access training 24 hours a day and seven days a week.

4. Leveraged Resources. Projects funded through CBJTGs should leverage resources from key entities in the strategic partnership. Leveraging resources in the context of strategic partnerships accomplishes three goals: (1) It allows for the strategic pursuit of resources; (2) it increases stakeholder investment in the project at all levels including design and implementation phases; and (3) it broadens the impact of the project itself.

Leveraged resources include both Federal and non-Federal funds and may come from many sources. Applicants are required to leverage WIA training resources to support their project, and encouraged to leverage other types of WIA funding at the state and local level into their proposed project. Integrating WIA funds ensures that the full spectrum of assets available from the workforce system is leveraged to support capacity building and training activities. The wide variety of WIA programs and activities provide both breadth and depth to the proposed solution offered to both businesses and individuals. The use of WIA funds also serves to embed the solutions-based approach into the local or regional workforce investment system, which strengthens the system's ability to become more demand-driven.

Applicants must demonstrate the integration of WIA training resources into grant activities, such as covering tuition costs for eligible new or incumbent workers. Examples of WIA training resources include Individual Training Accounts (ITAs), customized training, and Career Advancement Accounts (CAAs). ITAs are training funds that can be used by individuals who have been determined eligible by their local One-Stop Career Center(s) to receive WIA funded training. Customized training, defined at 20 CFR 663.715, is designed to meet the special requirements of an employer; is conducted with a commitment by the employer to employ, or continue to employ, an individual on successful completion of the training; and has the employer providing not less than 50% of the cost of the training (if employer contributions are provided toward the costs of customized training in support of grant activities, non-wage portions of these contributions may be considered leveraged resources). CAAs are self-managed accounts that are currently being piloted in eight states: Georgia, Indiana, Michigan, Minnesota, Missouri, Ohio, Pennsylvania, and Wyoming. Under the demonstrations, an individual would apply for a CAA at a One-Stop Career Center that would enable the individual to gain the education and training needed to successfully enter, navigate, and advance in 21st century jobs.

Other key sources of leveraged resources may be businesses, faith-based and community organizations, economic development entities, education systems, and philanthropic foundations, which often invest resources to support workforce development. Other Federal, state, and local government programs may have resources available that can be integrated into the proposed project. Examples of such programs include other Department of Labor programs such as registered apprenticeship, as well as non-DOL One-Stop partner programs such as Vocational Rehabilitation, Adult Education, and Department of Education Pell Grants. Faith-based and community organizations also may provide resources such as supportive services, mentoring, tutoring, and volunteers-all of which are important for grantees to leverage when assisting certain individuals targeted by these funds.

When leveraging resources, please include the following information in the budget narrative and Part II of the application, as applicable: (1) The total amount leveraged from Federal sources; (2) the total amount leveraged from non-Federal sources; (3) the partners contributing the resources; and (4) the projected activities, broken out by the source of the leveraged resource (Federal or non-Federal), to be implemented utilizing these resources. Applicants should note that, as ETA evaluates proposals, the quality of the leveraged resources contributed will be evaluated, rather than the specific amount of resources contributed.

ETA encourages CBJTG applicants and their strategic partners to be entrepreneurial as they seek out, utilize, and sustain these resources, whether they are in-kind or cash contributions, when creating capacity building and training strategies to effectively address the workforce challenges identified by industry.

5. Replication of Successful Models for Broad Distribution. CBJTGs are intended to drive the community college and workforce investment systems to be more responsive to the workforce demands of industry by making the products, models, and effective approaches that result from CBJTG investments available to both systems. To that end, grantees will develop the foundations and outcomes of CBJTGs projects, including the learning and achievements resulting from the projects, into solutions-based models that can be shared with, and implemented by, other community colleges, the workforce system, and industry leaders.

ETA is currently pursuing an aggressive national dissemination strategy for grant products that focuses on widely distributing grantee tools, models, and products through a network of stakeholders including education and industry partners, and the public workforce system. As noted in section IV.E., the Federal government retains the right to use and distribute materials developed with grant funds. CBJTG grantees are required to submit the products and tools developed through the CBJTGs, including curriculum, competency models, distance learning tools, career awareness and outreach materials, research, case studies, career lattices, creation of industry skill centers, and Web sites to ETA for dissemination. Products will be available online at www.Workforce3One.org.

Workforce3 One offers the public workforce system, employers, economic development professionals, and education professionals an innovative knowledge network designed to create and support demand-driven communities, one that responds directly to business needs and prepares workers for good jobs in the fastest growing careers. By supporting replicable projects that can be implemented in multiple areas and industries, ETA is able to maximize its investment by expanding the grant's impact beyond the initial grant site and helping additional businesses and workers in other regions.

6. Clear and Specific Outcomes. The CBJTGs are intended to achieve increased training capacity of community colleges for high growth, high demand industries and to train workers for those industries. Grants are expected to generate clear and specific outcomes that are appropriate to the nature of the solution and size of the project; that are achievable by the partnership during the life of the grant; that indicate progress towards meeting the workforce challenges identified by the partnership; and that the partnership can effectively report to ETA on a quarterly basis. Because CBJTG grantees are expected to invest in customized strategies to address local and regional workforce and skills shortages, ETA recognizes that specific outcomes will vary from project to project based on the specific activities proposed by applicants. Standard data collected from all grantees provides only part of the information necessary to measure CBJTGs successes effectively, so grant recipients may also define additional outcome measures appropriate to their project. CBJTGs applicants must demonstrate the effectiveness of the proposed training activities by creating appropriate outcome projections for the project, which will be considered baseline performance measures for the grant if awarded. Additionally, applicants should note that CBJT grantees must report to ETA, on a quarterly basis, their progress towards meeting the projected capacity building and training outcomes listed in their applications.

a. Training Outcomes: Training outcomes must include those tracked by the Common Measures, which are uniform evaluation metrics for job training and employment programs. The Common Measures are an integral part of ETA's performance accountability system. Applicants must include projected outcomes to be achieved during the life of the grant for the Entered Employment Rate Adult Common Measure. Grantees will also be required to report quarterly on their outcomes for all three Adult Common Measures—Entered Employment Rate, Employment Retention Rate, and Average Earnings. Please note that ETA recognizes that the reporting of certain data is contingent on the timing of the availability of data. Data must be reported when it is available. Additionally, tracking Common Measures requires either the collection of four data elements (Social Security number, employment status at participation, date of exit, and reason for exit) or use of supplemental data. A detailed description of ETA's policy on the Common Measures can be found in the Training and Employment Guidance Letter (TEGL) No. 17-05 (http://wdr.doleta.gov/directives/corr_doc.cfm?DOCN=2195). Applicants may find it useful to review this document prior to submitting applications under this Solicitation.

The Common Measures provide only part of the information necessary to measure CBJTGs successes effectively. Applicants are required to provide projections and track and report outcomes for each of the following outcome categories: total number of participants served, total number of participants beginning education/training activities; total number of participants completing education/training activities; total number of participants that complete education/training activities that receive a degree/certificate; total number of participants that complete education/training activities that enter employment; and the total number of participants that complete education/training activities that enter training-related employment. Grantees will be required, on a quarterly basis, to report on their outcomes for each of these outcome categories, as well as additional information such as total exiters.

Applicants should also note that proposals will be evaluated based on outcomes, per the evaluation criteria in Section V.4.a. Therefore, all outcome categories and outcome projections provided in the application will become part of the project's statement of work as the baseline goals for the grant, should the application be funded. It is not ETA's intent to renegotiate performance outcomes after grant awards are made, though it reserves the right to do so if necessary.

Finally, ETA has cleared and published a report format for grantees under the HGJTI and CBJTGs entitled: “High Growth and Community-Based Job Training Grants: General Quarterly Reporting Forms & Instructions.” The required format and associated instructions are available at: http://www.doleta.gov/Performance/Guidance/wia.cfm#HGBIT, and provide grantees with information on all of the above referenced outcome categories as well as specific instructions regarding how grantees report their performance in these categories on a quarterly basis. ETA strongly encourages applicants to review the required report format for detailed information on the program reporting requirements and to ensure they will be able to track and report the information required under the grant.

b. Capacity Building Outcomes: The intent behind collecting capacity building outcomes is to assess how well the capacity building strategies of the program are meeting the training needs of the targeted high-growth, high-demand industry or industries through impact measures. CBJTGs employ a variety of strategies and many of them have an associated deliverable that is developed using grant funds. These strategies include (a) developing and disseminating career awareness information; (b) developing adequate numbers of qualified instructors, such as through train-the-trainer and professional development activities; (c) identifying occupational competencies and developing competency-based curricula; (d) developing applied learning and clinical experiences, such as internships or the use of simulations; and (e) developing innovative learning models and environments and ways of structuring the education process, such as distance learning and blended-learning models.

Grantees will be required to report, on a quarterly basis, the outcomes of capacity building activities, which include impacts and other verifiable measures of participation where appropriate. An example of a capacity building activity where it is appropriate to report impact is for teacher professional development/train-the-trainer activities, in which there are no employment related outcomes for those being trained, but the impact of the grant activities has a far greater effect than on those just being trained. For example, a grant may train 25 college students to be volunteer after-school “instructors” and the impact would be a total of 500 high school students because, over the three year period under the grant, each “instructor” taught one class with 20 high school students. In their quarterly reports, grantees will be required to track and report the following three categories for capacity building outcomes:

1. The number of instructors who participated in grant-funded capacity building activities;

2. The number of students subsequently trained by those instructors; and

3. The number of other people participating and/or benefitting from capacity building activities.

Please note that capacity building outcomes and impacts of the proposed project must satisfactorily address the industry-identified workforce need and the capacity constraints identified by the community college, or other entity as specified in the exception detailed in Section III.C.5. Please see the recently approved required reporting format and associated instructions at http://www.doleta.gov/Performance/Guidance/wia.cfm#HGBIT for additional information on reporting capacity building outcomes.

c. It is imperative that applicants include projections for the above-mentioned required outcome categories in their grant proposals. Applicants that fail to include projections for required outcome categories (e.g., Entered Employment Rate Adult Common Measure) in their proposals will lose points during the review process. Additionally, reporting quarterly on all information contained in the grantee statement of work and the required reporting format are a condition of the grant award.

7. Integration with Regional Economic and Talent Development Strategies.

Today's global economy requires new workforce development strategies that build on demand-driven approaches to propel economic growth. Successful workforce investment leads to the creation of new jobs by attracting new businesses and industries, and expanding existing companies in communities through a talent-rich workforce.

Maintaining America's competitive position in the global economy requires a workforce with postsecondary education credentials and the capacity to work in a high-technology environment while creatively and collaboratively adapting as new technologies and business process innovations evolve. To keep pace with change, workers require lifelong learning opportunities. Rather than simply training the workforce for today's jobs, community colleges, the workforce investment system, and other entities in the continuum of education must operate as a talent development system, meeting industry's present needs while also collaborating with the region's economic development system to identify and support emerging industries. The goal is to ensure the availability of an educated and prepared workforce that is able to compete in the global economy by attracting and sustaining industry's investment in regional economies.

While CBJTGs assist individual community colleges in building their capacity to provide training in high-growth/high-demand industry sectors of the economy, they also play a vital role in the development of a regional talent development system. Therefore, the capacity building and training activities occurring under CBJTGs should be aligned with, and integrated into, regional talent and economic development strategies. A regional approach under CBJTGs ensures that the full range of assets, resources, knowledge, and leadership are at the table to implement a solution that will address the critical capacity constraints faced by the community college while supporting talent development in the regional economy.

To demonstrate that their projects are aligned with and integrated into regional talent and economic development strategies, applicants should describe how their capacity building and training solution are part of or complement existing regional approaches under regional talent and economic development plans and initiatives or is the catalyst for bringing partners together to begin the analysis and strategic planning in their region. Additionally, applicants should demonstrate alignment with regional talent and economic development strategies by integrating regional partnerships into their proposed capacity building and training activities. In addition to the partners required under this Solicitation, applicants can demonstrate connection to regional talent and economic development activities through broader and deeper partnerships with regional business leadership and organizations, such as chambers of commerce; regional economic development organizations; the philanthropic community; seed and venture capital organizations or individuals; investor networks; entrepreneurs; faith-based and community organizations; and other regional entities. Finally, applicants should demonstrate that leveraged resources come from regional partners or from existing or planned talent development efforts within the region.

II. Award Information

A. Award Amount

ETA intends to fund approximately seventy-five (75) grants ranging from $500,000 to $2 million through this competition. However, this does not preclude ETA from funding grants at either a lower or higher amount, or funding a smaller or larger number of projects, based on the type and the number of quality submissions. Applicants should recognize that the funds available through this SGA are designed to complement additional leveraged resources rather than be the sole source of funds for the proposal.

B. Period of Performance

The period of grant performance will be up to 36 months from the date of execution of the grant documents. This performance period shall include all necessary implementation and start-up activities, participant follow-up for performance outcomes, and grant close-out activities. A timeline clearly detailing these required grant activities and their expected completion dates must be included in the grant application. ETA may elect to exercise its option to award no-cost extensions to grants for an additional period, based on the success of the program and other relevant factors, if the grantee applies for, and provides a significant justification for, such an extension.

III. Eligibility Information and Other Grant Specifications

A. Eligible Applicants

In order to be eligible for consideration under this solicitation, the applicant must be either: (1) An individual Community or Technical College, (2) a Community College District, (3) a state Community College System, or (4) a One-Stop Career Center in partnership with its Local Workforce Investment Board. For educationally underserved communities without access to community or technical colleges, there are other eligible applicants; please see Section III.C.5. Requirements for each of these applicant types are provided below.

1. Community or Technical College applicants must demonstrate that they are a public, accredited institution of higher education that predominantly awards Associate's Degrees. This definition includes tribally controlled colleges and universities. For the purposes of this paragraph, an “Institution of Higher Education” is defined as an entity that has its own Federal Tax Identification Number and has direct control of its funds. Entities that do not meet the above criteria may be eligible to apply under the exception in Section III.C.5, if the conditions of that section are met. However, private for-profit institutions of higher education are not eligible to apply at all under this Solicitation.

2. Community College District applicants must demonstrate that they are an education district organized by the state to define the community in which the college operates. Community College District applications must specify one or more community college(s) within the district where capacity building and training activities will occur under the grant.

3. State Community College System applicants must demonstrate that their office represents the management and supervision of a unified statewide system of community and technical colleges. State system applications must specify one or more community college(s) within the state where capacity building and training activities will occur under the grant.

4. One-Stop Career Centers, as established under Section 121 of the Workforce Investment Act of 1998 (Pub. L. 105-220). The eligible applicant for One-Stop Career Centers must be the One-Stop Operator, as defined under Section 121 of the Workforce Investment Act of 1998 (Pub. L. 105-220), on behalf of the One-Stop Career Center. The applicant must: (1) Have a letter of concurrence from the Local Workforce Investment Board; (2) demonstrate that the proposed activities are consistent with the state and local strategic Workforce Investment Act plan; and (3) demonstrate that the Local Workforce Investment Board, or its designated fiscal agent, will serve as the fiscal agent for the grant by clearly providing the legal name and EIN of the fiscal agent. The Local Workforce Investment Board's support and involvement in the project should be detailed in the letter of concurrence, which should also address the above requirements (2) and (3). Applications from One-Stop Career Centers without a letter of concurrence from their Local Workforce Investment Board will be considered non-responsive and will not be reviewed. One-Stop Career Center applications must specify one or more community college(s) where all capacity building and training activities will occur under the grant. One-Stop Career Center applicants should clearly note in the Abstract that they are applying under Section III.A.4 of the SGA. Additionally, in the abstract, One-Stop Career Center applicants should note that they are the One-Stop Career Center operator and provide the name of the One-Stop Career Center. Finally, in the abstract of the proposal, the One-Stop Career Center applicant must clearly articulate and demonstrate their role in operating the One-Stop Career Center and as appropriate, describe their relationship to the local Workforce Investment Board, local workforce and/or economic development agency, and state workforce and/or economic development agency.

In addition, it is important to note that under each of the four applicant types above, an application could be submitted on behalf of a consortium of community or technical colleges. When applicants submit an application on behalf of a consortium, in addition to meeting other application requirements they will need to specify which organization will serve as fiscal agent for the grant by clearly providing the name and EIN of that organization. The applicant will also need to identify the specific role that each participating community and/or technical college will play in the project. Finally, the application will need to include a letter of support from each member of the consortium indicating their support for the project and identifying the specific role they will play in the project.

Finally, within each specific category of applicant type noted above, an applicant may only submit one individual proposal. For example, an individual community college applying for a grant award may only submit one proposal, and a state community college system may only submit one proposal. However, please note that an individual community college may submit a proposal as an applicant and also be a partner in other applications submitted by other eligible applicants, but may not also be the applicant for a separate proposal submitted on behalf of a consortium.

B. Cost Sharing or Matching

Cost sharing, matching, or cost participation is not required for eligibility; however, applicants are required to leverage WIA training resources to support their project, and encouraged to leverage other types of resources from key entities in the strategic partnership in order to maximize the impact of the project in the region. The quality of leveraged resources is considered as part of the evaluation of proposals.

C. Other Grant Specifications

1. Demonstrated Partnerships. To be considered for funding under this SGA, the applicant must demonstrate that the proposed project will be implemented by a strategic partnership that includes at least one entity from each of the following categories: (1) The Workforce Investment System, which may include State and Local Workforce Investment Boards, State Workforce Agencies, and One-Stop Career Centers and their partners; (2) an individual community or technical college; (3) employers and industry-related organizations such as associations and unions; and (4) the continuum of education, including the K-12 public education system, adult education, four-year colleges and universities, and other training providers. In addition to the previously identified entities, applicants are encouraged to include faith-based and community organizations as a component of their partnerships. Please note that some applicants applying under the exception in Section III.C.5 may not have a community college partner. In these cases, the applicant should substitute the training provider as the required community college partner. Please see Section III.C.5 for more details. The strategic partnership may be a legally organized partnership, joint venture, or a more informal collaboration. Please note, while at least one entity from each category is required, ETA strongly encourages as many partners as necessary from each category to fully represent the community and the entire continuum of education.

2. Required Capacity Building and Training Activities. To be considered for funding under this SGA, proposed grant activities must include a combination of capacity building and training activities at the community college, or other entities as specified in the exception detailed in Section III.C.5, that target skills and competencies demanded by local high-growth/high-demand industries that are defined in the context of the regional economy. A component of all grants must be direct training costs, which include, but are not limited to the following types of costs (when these costs are directly related to the provision of training to participants): faculty costs, including salaries and fringe benefits; in-house training staff; support staff costs such as lab or teaching assistants; classroom space, including laboratories, mock-ups or other facilities used for training purposes; and books, materials, and supplies used in the training course, including specialized equipment. Grantees are strongly encouraged to leverage other resources to cover the tuition costs for the students trained under the grant. Possible sources of leveraged resources for tuition include, but are not limited to: Pell Grants; WIA resources, including ITAs and CAAs; and employer tuition reimbursement. Applicants must also describe how tuition for students participating in the program will be covered, including tuition charged to students, funding made available through the workforce investment system, business paid training, or other sources.

Proposed capacity building activities must address barriers that impede the ability of the community college, or other entities specified in the exception detailed in Section III.C.5, to meet local and regional industry demand for workforce training and must be directly linked to the specific training supported under the grant. Applicants may propose a cross-cutting capacity building and training strategy that will support training in more than one high-growth/high-demand industry if the applicant can demonstrate that skill needs in the identified industries are shared. Applicants that wish to propose training programs in two or more high-growth industries that do not share skill needs should do so through separate applications in which they are involved. Applicants must also describe their specific recruiting strategy for enrolling students in the new training opportunities available once capacity constraints are addressed.

3. Participants Eligible to Receive Training. Generally, the scope of potential trainees is very broad. WIA Sec. 171(d) authorizes demonstration programs to serve dislocated workers, incumbent workers, and new entrants to the workforce. This authorization supports a broad range of training for a variety of populations, including: incumbent workers who need new skills for jobs in demand at higher levels of the career ladder or because the skill needs for their current jobs have changed; untapped labor pools such as immigrant workers, individuals with limited English proficiency, individuals with disabilities, veterans, Indian and Native Americans, older workers, youth, etc.; or entry level workers who need basic skills and/or specific occupational skill training. Please note that ETA will award five bonus points in this Solicitation to applicants that provide evidence of collaboration with faith-based and community organizations to serve populations with barriers to employment. The identification of targeted and qualified trainees should be part of the larger project planning process undertaken by the required partnership and should relate to the workforce challenge that is being addressed by the training.

4. Training Providers. Community and technical colleges are the required training providers under CBJTGs, regardless of the applicant, with the exception of rural areas and other educationally underserved communities with no reasonable access to community colleges (please see Section III.C.5 below for more information on this exception). ETA encourages applicants to be creative in integrating partner resources and expertise into the training plan. For example, a business partner may provide a qualified instructor to the community college; the community college may provide on-site training for workers to take advantage of business-loaned equipment; the training may be provided jointly; or the training may utilize technology-based distance learning alternatives as well as blended learning, which combines self-paced and instructor-led interactions.

5. Exception to Eligible Applicants and Training Provider Requirements for Rural and Other Educationally Underserved Areas with No Access to Community Colleges. ETA recognizes that some communities, particularly those in rural areas, may lack access to community and technical college training where physical college facilities are not reasonably close and technology-based and distance learning options are limited or not available. Educationally underserved communities that lack this access may submit proposals under the parameters detailed in this exception. In such cases, the applicant will be required to clearly state it is applying under this exception and must fully demonstrate as part of its statement of need that community college training is not reasonably available within commuting distance of the community in which grant activities will take place and that there are no viable technology-based or distance learning options available. Applicants may use mileage, population, and access to classrooms, Internet and other technology, public transportation and other services, as factors to support their demonstration of the lack of access to and availability of community college training. Please note that applications submitted under the exception must still meet all other requirements set forth in this Solicitation. Applicants must clearly note in the abstract that they are applying under this exception.

Under this exception, the additional eligible applicants and requirements on training are listed below.

a. Public, accredited Institutions of Higher Education that award certificates and both two-year and four-year degrees, and satellite campuses of such Institutions, are eligible to apply under this exception. However, the emphasis for capacity building and training activities under the grant must be at the certificate or two-year Associate's Degree level. The public institution of higher education applicant is also required to be the training provider for applications submitted under this exception and will serve as a substitute for the required community college training provider detailed in Section III.C.4;

b. Alternate Educational Entities that are governmental or not-for-profit organizations that directly deliver, or broker for delivery, post-secondary education opportunities in educationally underserved communities that lack access to community colleges are eligible to apply under this exception. Alternate Educational Entity applicants must demonstrate that: (1) The emphasis for capacity building and training activities under the grant must be at the certificate or two-year Associate's Degree level; (2) the training is offered in partnership with a community college outside the underserved area and is acceptable for credit at or a credential from the partner community college; and (3) a component of the capacity building activities supports the partnering community college for the purposes of enhancing the training services provided by that college to the underserved area. Additionally, applications must specify one or more community college(s) where capacity building and training activities will occur under the grant.

6. Veterans Priority. The Jobs for Veterans Act (Pub. L. 107-288) provides priority of service to veterans and spouses of certain veterans for the receipt of employment, training, and placement services in any job training program directly funded, in whole or in part, by the Department of Labor. In circumstances where a CBJTG recipient must choose between two equally qualified candidates for training, one of whom is a veteran, the Jobs for Veterans Act requires that CBJTG recipients give the veteran priority of service by admitting him or her into the program. Please note that, to obtain priority of service, a veteran must meet the program's eligibility requirements. ETA Training and Employment Guidance Letter (TEGL) No. 5-03 (September 16, 2003) provides general guidance on the scope of the Job for Veterans Act and its effect on current employment and training programs. TEGL No. 5-03, along with additional guidance, is available at the “Jobs for Veterans Priority of Service” Web site: http://www.doleta.gov/programs/vets.

7. Re-designation of One-Stop Operators. If at any time the applicant One-Stop Operator changes, then DOL and the WIB will modify the application or grant on behalf of the One-Stop Career Center, for the purpose of designating a new One-Stop Operator.

8. CBJTGs Evaluation. ETA is interested in determining if training provided through the CBJTGs impacts students' future labor force outcomes. To that end, ETA expects to select some grantees awarded funds through this SGA to participate in a random assignment impact evaluation. Therefore, to receive funds under this solicitation, sites must include in their application a statement that, if selected as a grantee they agree to the random assignment of students to either a control group, which does not receive CBJTG training, or a program group, which can receive this training. Procedures for random assignment will be specified by an independent contractor selected by ETA. In addition, sites must be willing to share with the evaluation contractor individual information on demographics, participant characteristics, services received and outcomes. Sites must also agree to provide access to program operating personnel and participants, as specified by the evaluator(s) under the direction of ETA, including after the expiration date of the grant.

(9) Leveraging WIA Training Resources. To be considered for funding under this SGA, the applicant must demonstrate that the proposed project will leverage WIA training resources to support their project. Examples of WIA training resources include ITAs, customized training, and Career Advancement Accounts.

IV. Application and Submission Information

A. Address To Request Application Package

This SGA contains all of the information and links to forms needed to apply for grant funding.

B. Content and Form of Application Submission

The proposal must consist of two (2) separate and distinct parts, Parts I and II. Applications that fail to adhere to the instructions in this section will be considered non-responsive and may not be given further consideration. Applicants who wish to apply do not need to submit a Letter of Intent. The completed application package is all that is required.

Part I of the proposal is the Cost Proposal and must include the following three items:

• The Standard Form (SF) 424, “Application for Federal Assistance” (available at http://www07.grants.gov/agencies/forms_repository_information.jsp and http://www.doleta.gov/grants/find_grants.cfm). The SF 424 must clearly identify the applicant and be signed by an individual with authority to enter into a grant agreement. Upon confirmation of an award, the individual signing the SF 424 on behalf of the applicant will be considered the Authorized Representative of the applicant.

• All applicants for Federal grant and funding opportunities are required to have a Data Universal Numbering System (DUNS) number provided by Dun and Bradstreet. See OMB Notice of Final Policy Issuance, 68 FR 38402 (June 27, 2003). Applicants must supply their DUNS number on the SF 424. The DUNS number is a nine-digit identification number that uniquely identifies business entities. Obtaining a DUNS number is easy and there is no charge. To obtain a DUNS number, access this Web site, www.dunandbradstreet.com, or call 1-866-705-5711.

• The SF 424A Budget Information Form (available at http://www07.grants.gov/agencies/forms_repository_information.jsp and http://www.doleta.gov/grants/find_grants.cfm). In preparing the Budget Information Form, the applicant must provide a concise narrative explanation to support the request. The budget narrative should include: (1) The total amount leveraged from Federal sources; (2) the total amount leveraged from non-Federal sources; (3) the partners contributing the resources; and (4) the projected activities to be implemented utilizing leveraged resources, broken out by the source of the leveraged resource (Federal or non-Federal). In applications submitted by Community College Districts, State Community College Systems, One-Stop Career Centers, and alternate educational entities, the budget narrative should also break out the portion of the budget going to the applicant as well as the funds going to the community college for capacity building and training.

Please note that applicants that fail to provide the SF 424, SF 424A or the budget narrative will be removed from consideration prior to the technical review process. Leveraged resources should not be listed on the SF 424 or SF 424A Budget Information Form, but should be described in the budget narrative and in Part II of the proposal. The amount of DOL funding requested for the entire period of performance (up to 36 months) should be shown together on the SF 424 and SF 424A Budget Information Form. Please do not show only one year of funding on your SF 424 or SF424A. Applicants are also encouraged, but not required, to submit OMB Survey N. 1890-0014: Survey on Ensuring Equal Opportunity for Applicants, which can be found at http://www07.grants.gov/agencies/forms_repository_information.jsp and http://www.doleta.gov/grants/find_grants.cfm.

Part II of the application is the Technical Proposal, which demonstrates the applicant's capabilities to plan and implement the CBJTGs in accordance with the provisions of this solicitation. The Technical Proposal is limited to twenty (20) double-spaced, single-sided, 8.5 inch x 11 inch pages with 12 point text font and one-inch margins. Applicants should number the Technical Proposal beginning with page number one. Any pages over the 20 page limit will not be reviewed. In addition, in attachments which may not exceed ten (10) pages, the applicant may provide resumes, a list of staff positions to be funded by the grant, statistical information, general letters of support, and other related material. The required letters of commitment from partners must be submitted as additional attachments and will not count against the allowable 10-page limit on attachments. Please note that applicants should not send letters of commitment or support separately to ETA because letters are tracked through a different system and will not be attached to the application for review. Additionally, the applicant must reference grant partners by organizational name in the text of the Technical Proposal. Except for the discussion of any leveraged resource to address the evaluation criteria, no cost data or reference to prices should be included in the Technical Proposal. In addition, the following information is required:

• A table of contents listing the application sections;

• A one to two page time line outlining project activities and an anticipated schedule for deliverables;

• A one to two page abstract summarizing the proposed project and applicant profile information including: applicant name, project title, industry focus, partnership members, proposed training and capacity building activities, funding level requested, the amount of leveraged resources, the target group(s), and a project description as described in the evaluation criteria section at Section V.A of this Solicitation. The abstract should also clearly note whether the application is being submitted by a One-Stop Career Center as mentioned in Section III.A.4 or under the exception detailed in Section III.C.5. If the application is being submitted by a One-Stop Career Center, the applicant should note that they are the One-Stop Career Center Operator and provide the name of the One-Stop Career Center; and

• A summary of up to three pages listing all projected training, employment, and capacity building outcomes that includes the following:

○ For training-related outcomes, for participants served with grant funds list the projected numbers for all training-related activities provided through the grant, including but not limited to:

—Entered Employment Rate (common measure);

—Total participants served;

—Total participants beginning education/training activities;

—Total participants completing education/training activities;

—Total participants that complete education/training activities that receive a degree/certificate;

—Total participants that complete education/training activities that enter employment;

—Total participants that complete education/training activities that enter training-related employment; and

—Increase in enrollment attributed to grant (number of additional students).

○ For capacity building outcomes (for activities funded by grant funds) include:

■ All products to be developed during the grant period.

—List the capacity building product (including, but not limited to, curriculum and course materials, competency models and career ladders, outreach materials, reports and databases, and program management and implementation tools); and

—The projected date the product(s) will be completed;

■ The number of instructors projected to participate in capacity building activities;

■ The number of students projected to be trained by these instructors; and

■ The estimated number of other individuals (besides these students and instructors) projected to participate and/or benefit from capacity building activities.

○ A statement that the applicant is willing to implement and participate in a random assignment impact evaluation process. This can be accomplished by supplying an authorizing signature to the attached Memorandum of Agreement (Attachment A) which declares the applicant's commitment to support and participate in a random assignment impact evaluation.

Please note that the abstract, summary of outcomes, table of contents, time line, and statement regarding participation in the evaluation are not included in the Technical Proposal page limitation (though most have their own page limitations, listed above). Applications that do not provide Part II of the application may be removed from consideration prior to the technical review process.

Applications may be submitted electronically on www.grants.gov or in hard-copy via U.S. mail, professional overnight delivery service, or hand delivery. These processes are described in further detail in Section IV.C. Applicants submitting proposals in hard-copy must submit an original signed application (including the SF 424) and one (1) “copy-ready” version free of bindings, staples or protruding tabs to ease in the reproduction of the proposal by DOL. Applicants submitting proposals in hard-copy are also requested, though not required, to provide an electronic copy of the proposal on CD-ROM.

C. Submission Date, Times, and Addresses

The closing date for receipt of applications under this Solicitation is November 24, 2008. Applications must be received at the address below or successfully submitted through grants.gov no later than 4 p.m. (Eastern Time). Applications sent by e-mail, telegram, or facsimile (fax) will not be accepted. Applications that do not meet the conditions set forth in this notice will not be honored. No exceptions to the mailing and delivery requirements set forth in this notice will be granted.

Mailed applications must be addressed to the U.S. Department of Labor, Employment and Training Administration, Division of Federal Assistance, Attention: Chari Magruder, Reference SGA/DFA PY 08-02, 200 Constitution Avenue, NW., Room N-4716, Washington, DC 20210. Applicants are advised that mail delivery in the Washington area may be delayed due to mail decontamination procedures. Hand delivered proposals will be received at the above address.

Applicants may apply online through Grants.gov (http://www.grants.gov). It is strongly recommended that applicants applying online for the first time via Grants.gov immediately initiate and complete the “Get Registered” registration steps at http://www.grants.gov/applicants/get_registered.jsp. These steps may take multiple days or weeks to complete, and this time should be factored into plans for electronic application submission in order to avoid unexpected delays that could result in the rejection of an application. If submitting electronically through Grants.gov, the components of the application must be saved as either .doc, .xls or .pdf files.

Late Applications: Any application received after the exact date and time specified for receipt at the office designated in this notice will not be considered, unless it is received before awards are made, was properly addressed, and: (a) Was sent by U.S. Postal Service registered or certified mail not later than the fifth calendar day before the date specified for receipt of applications (e.g., an application required to be received by the 20th of the month must be post marked by the 15th of that month) or (b) was sent by professional overnight delivery service or submitted on Grants.gov to the addressee not later than one working day prior to the date specified for receipt of applications. An application submitted though grants.gov will not be considered “received” by the Department of Labor unless it is: Electronically submitted on grants.gov prior to the deadline; “validated” by grants.gov; and forwarded by grants.gov to the Department of Labor. It is highly recommended that online submissions be completed two working days prior to the date specified for receipt of applications to ensure that the applicant still has the option to submit by professional overnight delivery service in the event of any electronic submission problems. Applicants take a significant risk by waiting to the last day to submit by grants.gov. “Post marked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of non-responsiveness. Evidence of timely submission by a professional overnight delivery service must be demonstrated by equally reliable evidence created by the delivery service provider indicating the time and place of receipt.

ETA will post Frequently Asked Questions (FAQs) and host a Virtual Prospective Applicant Conference for this grant competition. The FAQs, as well as registration information for the Prospective Applicant Conference will be posted on ETA's Web site at: http://www.doleta.gov/business/Community-BasedJobTrainingGrants.cfm and http://www.workforce3one.org. Please check these pages for updates periodically during the Solicitation.

D. Intergovernmental Review

This funding opportunity is not subject to Executive Order (EO) 12372, “Intergovernmental Review of Federal Programs.”

E. Cost Principles

Determinations of allowable costs will be made in accordance with the applicable Federal cost principles, e.g., Educational Institution—OMB Circular A-21. Disallowed costs are those charges to a grant that the grantor agency or its representative determines not to be allowed in accordance with the applicable Federal Cost Principles or other conditions contained in the grant. Applicants will not be entitled to reimbursement of pre-award costs.

Indirect Costs. As specified in OMB Circular Cost Principles, indirect costs are those that have been incurred for common or joint objectives and cannot be readily identified with a particular cost objective. In order to utilize grant funds for indirect costs incurred, the applicant must obtain an Indirect Cost Rate Agreement with its Federal Cognizant Agency either before or shortly after the grant award.

Administrative Costs. Under the CBJTGs, an entity that receives a grant to carry out a project or program may not use more than 5 percent of the amount of the grant to pay administrative costs associated with the program or project. Administrative costs could be both direct and indirect costs and are defined at 20 CFR 667.220. Administrative costs do not need to be identified separately from program costs on the SF 424A Budget Information Form. They should be discussed in the budget narrative and tracked through the grantee's accounting system. Although there will be administrative costs associated with the managing of the partnership as it relates to specific grant activity, the primary use of funding should be to support the actual capacity building and training activity(ies). To claim any administrative costs that are also indirect costs, the applicant must obtain an indirect cost rate agreement from its Federal cognizant agency as specified above.

Use of funds for supportive services. Use of grant funds for supportive services, such as transportation and childcare, including funds provided through stipends for such purposes, is not an allowable cost under this Solicitation for Grant Applications.

Use of stipends. The provision of stipends to training enrollees for the purposes of wage replacement is not an allowable cost under this Solicitation for Grant Applications.

Salary and bonus limitations. In compliance with Public Law 109-234 and Public Law 110-5, none of the funds appropriated in Public Law 109-149, Public Law 110-5, or prior Acts under the heading `Employment and Training' that are available for expenditure on or after June 15, 2006, shall be used by a recipient or sub-recipient of such funds to pay the salary and bonuses of an individual, either as direct costs or indirect costs, at a rate in excess of Executive Level II, except as provided for under section 101 of Public Law 109-149. This limitation shall not apply to vendors providing goods and services as defined in OMB Circular A-133. See Training and Employment Guidance Letter number 5-06 for further clarification: http://wdr.doleta.gov/directives/corr_doc.cfm?DOCN=2262.

Legal Rules Pertaining to Inherently Religious Activities by Organizations that Receive Federal Financial Assistance. The government is generally prohibited from providing direct financial assistance for inherently religious activities (please see 29 CFR Part 2, Subpart D). These grants may not be used for religious instruction, worship, prayer, proselytizing or other inherently religious activities except as provided in those regulations. Therefore, organizations must take steps to separate, in time or location, their inherently religious activities from the services funded under this program. Neutral, non-religious criteria that neither favor nor disfavors religion will be employed in the selection of grant recipients and must be employed by grantees in the selection of sub-recipients. A faith-based or community organization receiving ETA funds retains its independence from Federal, state, and local governments, and may continue to carry out its mission, including the definition, practice, and expression of its religious beliefs. For example, a faith-based or community organization may use space in its facilities to provide secular programs or services funded with Federal funds without removing religious art, icons, scriptures, or other religious symbols. In addition, a faith-based or community organization that receives Federal funds retains its authority over its internal governance, and it may retain religious terms in its organization's name, select its board members on a religious basis, and include religious references in its organization's mission statements and other governing documents in accordance with all program requirements, statutes, and other applicable requirements governing the conduct of ETA funded activities.

Faith and community-based organizations may also reference ETA Training and Employment Guidance Letter (TEGL) No. 01-05 (July 6, 2005), available at http://wdr.doleta.gov/directives/corr_doc.cfm?DOCN=2088. Faith-based and community organizations may learn about equal treatment and religion-related regulations through the DOL's new online training course at Workforce3one (http://www.workforce3one.org). The course can be found by typing the key words—equal treatment—in the search box on the upper right hand corner of the page. If you are previously registered on this site, you can find the course directly at http://www.workforce3one.org/public/_shared/detail.cfm?id=5566&simple=false.

ETA Intellectual Property Rights. Applicants should note that grantees must agree to provide ETA a paid-up, nonexclusive and irrevocable license to reproduce, publish, or otherwise use for Federal purposes all products developed or for which ownership was purchased under an award, including but not limited to curricula, training models, technical assistance products, and any related materials, and to authorize them to do so. Such uses include, but are not limited to, the right to modify and distribute such products worldwide by any means, electronically or otherwise.

Additional Requirements. Federal funds may not be used to pay any royalty or licensing fee associated with such copyrighted material, although they may be used to pay costs for obtaining a copy which is limited to the developer/seller costs of copying and shipping. If revenues are generated through selling products developed with grant funds, including intellectual property, these revenues are program income. Program income is added to the grant and must be expended for allowable grant activities.

F. Withdrawal of Applications

Applications may be withdrawn by written notice at any time before an award is made. Applications may be withdrawn in person by the applicant or by an authorized representative thereof, if the representative's identity is made known and the representative signs a receipt for the proposal.

V. Application Review Information

A. Evaluation Criteria

This section identifies and describes the criteria that will be used to evaluate proposals for a CBJT Grant. These criteria and point values are:

Criterion | Points
1. Statement of Need | 10
2. Linkages to Key Partners | 20
3. Training and Capacity Building Plan | 25
4. Outcomes, Benefits, and Impact | 30
5. Program Management and Organization Capacity | 10
6. Integration with Regional Economic and Talent Development Strategies | 5
7. Bonus: Partnership with Faith-Based and Community Organizations | 5
Total Possible Points | 105

1. Statement of Need (10 Points)

Applicants must demonstrate a clear and specific need for the Federal investment in the proposed activities by: (a) Identifying the industry or industries of focus; (b) establishing that the identified industry satisfies ETA's criteria for a high-growth/high-demand industry in the local or regional economy as described in Section I.B.1 of this solicitation; (c) providing evidence of industry demand for training in the local or regional economy; and (d) describing in detail the capacity challenges the community college(s), or other entity as specified in the exception detailed in Section III.C.5, faces that limit its ability to provide sufficient quantity or quality of training to meet the identified industry's demand.

Applicants may draw from a variety of resources for supporting data, including: Traditional labor market information, such as projections; industry data from trade or industry associations, Chambers of Commerce, or direct information from the local employers or industry; information on the local and regional economy from economic development agencies; and other transactional data, such as job vacancies.

In addition to the above, applicants applying under the exception detailed in Section III.C.5 must also demonstrate that community college training is not reasonably available within commuting distance of the community in which grant activities will take place and that there are no viable technology-based or distance learning options available. Applicants may wish to use mileage, population, and access to classrooms, Internet and other technology, public transportation and other services, in their demonstration of community college training not being reasonably available in their community.

2. Linkages to Key Partners (20 Points)

The applicant must demonstrate that the proposed project will be implemented by a strategic partnership that includes at least one entity from each of four categories: (1) The workforce investment system, which may include State and Local Workforce Investment Boards, State Workforce Agencies, and One-Stop Career Centers and their partners, as such terms are defined under WIA; (2) community and technical colleges; (3) employers and industry-related organizations such as associations and unions; and (4) the continuum of education, including the K-12 public education system. Please note, some applications submitted under the exception outlined in Section III.C.5 may have a substitution for the community college partner. Please see Section III.C.5 for more details. In addition, please note that bonus points are available for applicants that provide evidence of collaboration with faith-based and community organizations to serve populations with barriers to employment. Please see section V.A.7 for more details.

The applicant must identify the partners by organizational name and category, explain the meaningful role each partner will play in the project, and document the resources leveraged from each partner. Collaborating partners must verify their role through a letter of commitment detailing the roles, responsibilities, and resources the partner will commit to the project. The letters of commitment must be attached to the proposal. Applicants must also identify resources leveraged from other organizations, including other workforce investment system partners.

ETA encourages, and will be looking for, applications that go beyond the minimum level of partnership and demonstrate broader, substantive and sustainable partnerships. Scoring on this criterion will be based on the following factors:

• Evidence of Required Partners (5 points): The applicant must identify and provide evidence that the partnership contains each of the required partner entities. Applications that do not have each of the four required entities represented in the partnership will not receive any points for this factor.

• Comprehensiveness of the Partnership (7 points): The applicant must explain the meaningful role each partner will play in the project. Points for this factor will be awarded based on: (1) The degree to which each partner, including all required partners, plays a committed role, either financial or non-financial, in the proposed project; (2) the breadth and depth of each partners contribution, their knowledge and experience concerning grant activities, their ability to impact the success of the project, and any specific outcomes that will result from any leveraged resources they contribute to the project; and (3) evidence, including letters of commitment from required partners, that key partners have expressed a clear dedication to the project and understand their area of responsibility. Applications that do not have each of the four required entities represented in the partnership cannot receive full points for this factor.

As part of this description, applicants must provide evidence of the integration of WIA training resources into grant activities. Examples of WIA training resources include, but are not limited to, ITAs, customized training, and CAAs, as applicable. Applicants must provide a detailed description of the role of WIA training resources in the CBJTGs project that includes: (1) The type of WIA training resources leveraged; (2) the dollar amount leveraged; (3) the workforce system partner involved; (4) the role of the resources in the project; and (5) the impact of the WIA training resources. An example of a responsive description is: “The One Stop Career Center will leverage from its WIA resources $X in ITAs for our CBJTGs project. The impact will be that the One-Stop Career Center will assess and refer a minimum of X candidates for training and provide them with ITAs for training under the CBJTGs.” This information should also be included in the letter of commitment from the workforce system partner. Applicants cannot simply state that WIA funds will be integrated into the project.

• Partnership Management (8 points): Points for this factor will be awarded based on: (1) The evidence of a plan for interaction between partners at each stage of the project, from planning to execution; (2) the evidence that the capacity challenge to be addressed by the grant was identified in the context of the strategic partnership; (3) demonstrated ability of the lead partner to successfully manage partnerships; (4) the ability of the partnership to manage all aspects and stages of the project and to coordinate individual activities with the partnership as a whole; (5) the robustness of the applicant's plan for sustaining the partnership beyond the funding period, and (6) evidence that the partnership has the capacity to achieve the outcomes of the proposed project.

3. Training and Capacity Building Plan (25 Points)

The applicant must describe its proposed capacity building and training strategies in full. Scoring on this criterion will be based on:

• Effective, Innovative Training and Capacity Building Strategies (15 points): The applicant must provide evidence that: (1) The proposed project will address identified industry workforce or skills shortages and identified capacity constraints at the community college level or in the community if the application is submitted under the exception detailed in Section III.C.5; (2) there is a demonstrated link between the proposed project and the identified industry workforce challenge or skills shortages and identified capacity constraints at the community college level or in the community, if the application is submitted under the exception detailed in Section III.C.5; (3) the proposed project clearly integrates industry-driven capacity building and training activities; (4) proposed capacity building solutions are broad-based and include an appropriate range of activities; (5) the proposed capacity building activities increase the capacity of the college to provide training by increasing their enrollment numbers, thereby increasing the pipeline of skilled workers ready for employment or promotion in the regional economy; (6) it has developed a recruitment strategy to ensure that students enroll in training opportunities that are available once capacity constraints are addressed; (7) proposed training activities occur within the context of a continuum of education and training that supports long-term career growth, such as an articulated career ladder/lattice; (8) proposed training activities lead to appropriate credentialing; and (9) an explanation regarding how training costs will be paid for those students whose tuition is not paid for through grant funds.

• Implementation Strategy (10 points): Applicants can earn up to 10 points based on evidence that the applicant has a clear understanding of the tasks required to successfully meet the objectives of the grant. Factors considered in evaluating this evidence include: (1) The existence of a work plan that is responsive to the applicant's statement of need and includes specific goals, objectives, activities, implementation strategies, and a timeline; (2) the feasibility and reasonableness of the timeline for accomplishing all necessary implementation activities, including start-up, capacity building and training activities, participant follow-up for performance outcomes, and grant closeout activities; (3) whether the budget line items are consistent with and tied to work plan objectives; (4) the extent to which the budget is justified with respect to the adequacy and reasonableness of the resources requested; and (5) the presence of a robust outreach strategy that includes the dissemination of information regarding the project to others who would benefit most, and, if appropriate, recruitment of eligible participants.

4. Outcomes, Benefits, and Impact (30 Points)

Applicants must demonstrate an outcome-based approach to managing and operating their CBJTGs. This should be achieved by fully describing the measures that will be used to evaluate the success and impact of the project, and highlighting the benefits and impact of the outcomes and products on the larger capacity constraint(s) described in the statement of need. Scoring on this criterion will be based on the following factors:

a. Description of Outcomes (20 points): Applicants may earn up to 20 points for indicating the appropriate outcomes that will be tracked as detailed below. Additionally, the description of outcomes must include: (1) Projected outcomes, to be used as baseline numbers for tracking progress, in several categories related to training and (2) the methods proposed to collect and validate outcome data in a timely and accurate manner.

1. Training (10 points): Applicants must provide projections for ETA's Entered Employment Rate Adult Common Measure for participants served with grant funds. Grantees must track outcomes for ETA's Adult Common Measures (Entered Employment Rate, Employment Retention Rate, and Average Earnings) for these participants as well. Applicants must also provide projections and track outcomes for each of the following outcome categories for participants served with grant funds: total participants served; total number of participants beginning education/training activities; total number of participants completing education/training activities; total number of participants that complete education/training activities that receive a degree/certificate; total number of participants that complete education/training activities that enter employment; and total number of participants that complete education/training activities that enter training-related employment. The required format and associated instructions that grantees will use to report their outcomes for these various categories are available at http://www.doleta.gov/Performance/Guidance/wia.cfm#HGBIT, and provide applicants with additional information on all of the above referenced outcome categories. Applicants are strongly encouraged to review these before including outcome projections. Please note that applications that do not contain projections for all these categories cannot receive full points for this section.

Applicants must also identify the credential that participants will earn as a result of the proposed training, and the employer-, industry-, or state-defined standards associated with the credential. If the credential targeted by the training project is a certificate or performance-based certification, applicants should either (a) demonstrate employer engagement in the curriculum development process, or (b) indicate that the certification will translate into concrete job opportunities with an employer.

Finally, applicants should identify the increase in enrollment attributed to the grant (i.e., the number of additional students that will be served as a result of the grant). This projection demonstrates the grant's impact on education and training provided by college or other provider as a direct result of the grant.

2. Capacity Building (10 points): Applicants must clearly describe all products, models, curricula, etc. that will be developed or acquired with grant funds. When applicants propose to use grant funds to develop curricula, instructional and course materials, and other types of deliverables, applicants must demonstrate that substantial research has been conducted to ensure that the proposed workforce solutions are not duplicative of existing materials. Applicants must conduct a thorough review of existing curricula, instructional and course materials, and other types of products that are available through and contained on ETA's Workforce³One Web site. (A copy of the Workforce Solutions Catalogue may be downloaded from Workforce³One at: http://www.workforce3one.org/wfsolutions/). In addition, applicants should also examine other sources that may have the types of materials that the applicant would like to use grant funds to develop. For example, if the grantee is interested in developing curricula there are a growing number of resources that house curricula in addition to ETA's Workforce³One Web site such as: the U.S. Department of Education's Web site at http://www.free.ed.gov; Curriki, a compendium of open source curricula and other learning objects at www.curriki.org; and OpenCourseWare Consortium at http://www.opencoursewareconsortium.org. Industry association Web sites may also be a source of training materials. In their proposal, applicants should describe their research process for ensuring that the proposed workforce solutions are not duplicative of existing materials, including the specific sources that they researched, and indicate how the deliverables that they propose to develop differ from those materials that already exist.

Applicants must also indicate the impact of capacity building activities (i.e., the number of participants or entities who will benefit from proposed activities) provided with grant funds, where appropriate. All applicants must include projections and track outcomes (as applicable) for the number of instructors who will participate in capacity building activities; the number of students trained by those instructors; and the number of other people participating and/or benefitting from capacity building activities. Applicants must also describe the methodology for determining the impact of their capacity building activities.

b. Appropriateness of Outcomes (10 points): Applicants may earn up to 10 points based on three factors: (1) The extent to which the expected project outcomes are clearly identified and measurable, realistic and consistent with the objectives of the project; (2) the ability of the applicant to achieve the stated outcomes and report results within the timeframe of the grant; (3) the appropriateness of the outcomes with respect to the extent of the community college's identified capacity challenges and the requested level of funding.

5. Program Management and Organization Capacity (10 Points)

To satisfy this criterion, applicants must describe their proposed project management structure including, where appropriate, the identification of a proposed project manager, and discuss the proposed staffing pattern and the qualifications and experience of key staff members. Applicants should also provide information on current and/or proposed data systems to track participant services and outcomes in a timely and accurate manner. The applicant should include a description of organizational capacity (including its capacity to satisfy reporting requirements, particularly those pertaining to data collection, processing and reporting) and the organization's track record in projects similar to that described in the proposal and/or related activities of the primary partners.

Scoring under this criterion will be based on the extent to which applicants provide evidence of the following:

• The time commitment of the proposed staff is sufficient to ensure proper direction, management, and timely completion of the project;

• The roles and contribution of staff, consultants, and collaborative organizations are clearly defined and linked to specific objectives and tasks;

• The background, experience, and other qualifications of the staff are sufficient to carry out their designated roles; and

• The applicant organization demonstrates significant capacity to accomplish the goals and outcomes of the project, including the ability to collect, manage, and report data in a way that allows consistent, accurate, and expedient reporting. Applicants should be aware that ETA is modifying an existing software system to help grantees collect and report the performance data that is required by this grant, and expects to make this system available to grantees at no cost. Applicants' response to this section of the evaluation criteria could reference the use of this software system.

6. Integration With Regional Economic and Talent Development Strategies (5 Points)

Scoring on this criterion will be based on the applicant's ability to demonstrate that their CBJTG project is aligned with and integrated into their region's talent development and economic development strategy. Applicants may receive up to 5 points by:

• Summarizing the region's strategic vision and workforce education strategies in support of talent development and economic growth; and

• Either describing how their capacity building and training solution is part of or complements existing approaches under regional talent development and economic development plans and initiatives; or describing how their CBJTG project is a catalyst for bringing partners together to begin the analysis and strategic planning in their region.

• Describing any regional partnerships that are part of their capacity building and training plans and detail how the partnerships are broader and deeper in scope than the local partnerships in place for the proposed capacity building and training activity. Regional partners may include regional business leadership and organizations, such as chambers of commerce; economic development entities at the regional level; the philanthropic community; seed and venture capital organizations or individuals; investor networks; entrepreneurs; and faith-based and community organizations.

• Describing how leveraged resources come from regional partners or from existing or planned talent development efforts within the region.

7. Collaboration With Faith-Based and Community Organizations (5 Points)

ETA will award five bonus points to applicants that provide evidence of collaboration with faith-based and community organizations to serve populations with barriers to employment as part of their regional training efforts. To receive these five bonus points, applicants must provide a detailed description of this collaboration, including: (1) Clear identification of the specific faith-based and community organizations that will be involved in the collaboration; (2) a concise, detailed description of the specific role that these organizations will play in the project; (3) any projected outcomes associated with the organizations' role in the project, and (4) letters of commitment from each of these organizations stating their support for the project and outlining their specific role in the project.

B. Review and Selection Process

Applications for the CBJTGs will be accepted after the publication of this announcement until the closing date. A technical review panel will make a careful evaluation of applications against the criteria set forth in Section V.A of this Solicitation. These criteria are based on the policy goals, priorities, and emphases set forth in this SGA. Up to 105 points may be awarded to an application, based on the required information described in Section V.A of this Solicitation. The ranked scores will serve as the primary basis for selection of applications for funding, in conjunction with other factors such as urban, rural, and geographic balance; industry balance; the availability of funds; and which proposals are most advantageous to the Government. The panel results are advisory in nature and not binding on the Grant Officer, who may consider any information that comes to their attention. DOL may elect to award the grant(s) with or without prior discussions with the applicants. Should a grant be awarded without discussions, the award will be based on the applicant's signature on the SF 424, which constitutes a binding offer.

VI. Award Administration Information

A. Award Notices

All award notifications will be posted on the ETA Homepage (http://www.doleta.gov). Applicants selected for award will be contacted directly before the grant's execution. Applicants not selected for award will be notified by mail.

B. Administrative and National Policy Requirements

1. Administrative Program Requirements

All grantees will be subject to all applicable Federal laws, regulations, and the applicable OMB Circulars. The grant(s) awarded under this SGA will be subject to the following administrative standards and provisions:

a. Non-Profit Organizations—OMB Circulars A-122 (Cost Principles) and 29 CFR Part 95 (Administrative Requirements).

b. Educational Institutions—OMB Circulars A-21 (Cost Principles) and 29 CFR Part 95 (Administrative Requirements).

c. State and Local Governments—OMB Circulars A-87 (Cost Principles) and 29 CFR Part 97 (Administrative Requirements).

d. Profit Making Commercial Firms—Federal Acquisition Regulation (FAR)—48 CFR Part 31 (Cost Principles), and 29 CFR Part 95 (Administrative Requirements).

e. All entities must comply with 29 CFR Parts 93 and 98, and, where applicable, 29 CFR Parts 96 and 99.

f. 29 CFR Part 2, subpart D—Equal Treatment in Department of Labor Programs for Religious Organizations, Protection of Religious Liberty of Department of Labor Social Service Providers and Beneficiaries.

g. 29 CFR Part 31—Nondiscrimination in Federally Assisted Programs of the Department of Labor—Effectuation of Title VI of the Civil Rights Act of 1964.

h. 29 CFR Part 32—Nondiscrimination on the Basis of Handicap in Programs and Activities Receiving or Benefiting from Federal Financial Assistance.

i. 29 CFR Part 33—Enforcement of Nondiscrimination on the Basis of Handicap in Programs or Activities Conducted by the Department of Labor.

j. 29 CFR Part 35—Nondiscrimination on the Basis of Age in Programs or Activities Receiving Federal Financial Assistance from the Department of Labor.

k. 29 CFR Part 36—Nondiscrimination on the Basis of Sex in Education Programs or Activities Receiving Federal Financial Assistance.

The following administrative standards and provisions may be applicable:

a. Workforce Investment Act—20 Code of Federal Regulations (CFR) Part 667 (General Fiscal and Administrative Rules).

b. 29 CFR Part 30—Equal Employment Opportunity in Apprenticeship and Training; and

c. 29 CFR Part 37—Implementation of the Nondiscrimination and Equal Opportunity Provisions of the Workforce Investment Act of 1998.

In accordance with Section 18 of the Lobbying Disclosure Act of 1995 (Pub. L. 104-65) (2 U.S.C. 1611) non-profit entities incorporated under Internal Revenue Service Code section 501(c)(4) that engage in lobbying activities are not eligible to receive Federal funds and grants.

Note: Except as specifically provided in this Notice, DOL/ETA's acceptance of a proposal and an award of Federal funds to sponsor any program(s) does not provide a waiver of any grant requirements and/or procedures. For example, OMB Circulars require that an entity's procurement procedures must ensure that all procurement transactions are conducted, as much as practical, to provide open and free competition. If a proposal identifies a specific entity to provide services, the DOL/ETA's award does not provide the justification or basis to sole source the procurement, i.e., avoid competition, unless the activity is regarded as the primary work of an official partner to the application.

C. Special Program Requirements

Evaluation. DOL may require that the program or project participate in an evaluation of overall performance of CBJTGs, as described in Section III.C.8.

D. Reporting

The grantee is required to provide the reports and documents listed below:

Quarterly Financial Reports. A Quarterly Financial Status Report (SF 9130) is required until such time as all funds have been expended or the grant period has expired. Quarterly reports are due 45 days after the end of each calendar year quarter, including the last calendar quarter of the grant period. Grantees must use ETA's On-Line Electronic Reporting System.

Quarterly Progress Reports. The grantee must submit a quarterly progress report within 45 days after the end of each calendar year quarter. Grantees must utilize the required reporting form and instructions, referenced earlier in Section I.B.6 and Section V.A.4 and available at the following Web site: http://www.doleta.gov/Performance/Guidance/wia.cfm#HGBIT. DOL may require additional data elements to be collected and reported on either a regular basis or special request basis. Grantees must agree to meet DOL reporting requirements.

Final Report. A final report must be submitted no later than 90 days after the expiration date of the grant. This report must summarize project activities, employment outcomes, and related results of the training project, and should thoroughly document capacity building and training approaches. The final report should also include copies of all deliverables, e.g., curricula and competency models. Three copies of the final report must be submitted to ETA, and grantees must agree to use a designated format specified by DOL for preparing the final report.

A Closeout Financial Status Report is due 90 days after the grant period.

Record Retention. Applicants should be aware of Federal guidelines on record retention, which require grantees to maintain all records pertaining to grant activities for a period of not less than three years from the time of final grant close-out.

VII. Agency Contacts

For further information regarding this SGA, please contact Chari Magruder, Grant Officer, Division of Federal Assistance, at (202) 693-3313 (Please note this is not a toll-free number). Applicants should e-mail all technical questions to Chari Magruder at magruder.chari@dol.gov and must specifically include SGA/DFA PY 08-02 in the subject line, a contact name, fax and phone number, and e-mail address. This announcement is being made available on the ETA Web site at http://www.doleta.gov/grants/find_grants.cfm, http://www.grants.gov, as well as the Federal Register.

VIII. Additional Resources and Other Information

Resources for the Applicant

DOL maintains a number of web-based resources that may be of assistance to applicants.

• The Web site for the Employment and Training Administration (http://www.doleta.gov) is a valuable source for background information on the President's High Growth Job Training Initiative.

• Short descriptions of previously funded Community-Based Job Training Grants can be found at http://www.doleta.gov/BRG/CBJTGrants/.

• The Workforce³ One Web site, http://www.workforce3one.org, is a valuable resource for information about demand-driven projects of the workforce investment system, educators, employers, and economic development representatives. Additionally, current High Growth and Community-Based Job Training Grantees are posting their deliverables on this Web site.

• America's Service Locator (http://www.servicelocator.org) provides a directory of the nation's One-Stop Career Centers.

• Career Voyages (http://www.careervoyages.gov), a Web site targeted at youth, parents, counselors, and career changers, provides information about career opportunities in high-growth/high-demand industries.

• Applicants are encouraged to review “Help with Solicitation for Grant Applications” (http://www.dol.gov).

• For a basic understanding of the grants process and basic responsibilities of receiving Federal grant support, please see “Guidance for Faith-Based and Community Organizations on Partnering with the Federal Government” (http://www.whitehouse.gov/government/fbci/guidance/index.html).

Other Information

OMB Control Number 1225-0086.

Expires September 30, 2009.

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the OMB Desk Officer for ETA, Office of Management and Budget, Room 10235, Washington, DC 20503. PLEASE DO NOT RETURN THE COMPLETED APPLICATION TO THE OMB. SEND IT TO THE SPONSORING AGENCY AS SPECIFIED IN THIS SOLICITATION.

This information is being collected for the purpose of awarding a grant. The information collected through this “Solicitation for Grant Applications” will be used by the Department of Labor to ensure that grants are awarded to the applicant best suited to perform the functions of the grant. Submission of this information is required in order for the applicant to be considered for award of this grant. Unless otherwise specifically noted in this announcement, information submitted in the respondent's application is not considered to be confidential.

Signed at Washington, DC, this 1st day of October 2008.
Chari A. Magruder,
Employment and Training Administration, Grant Officer.

Attachment A

Memorandum of Agreement

In applying for these funds, the organization represented by the undersigned (the “applicant”) agrees to participate in a random assignment evaluation in which individuals applying to the program are randomly assigned to either receive or not to receive program services. This agreement is intended to serve as evidence of the applicant's commitment to support and participate in a random assignment study.

The impact study will require selected applicants to adhere to the assignment criteria as developed by the impact study team. In order to achieve a sufficient sample size to compute reliable impacts the intake process for the evaluation will last at least one year. During that time, the applicant agrees that up to half of the participants they recruit may be assigned to a control group not receiving services.

Additionally, the applicant agrees to provide all data requested by the evaluation contractor (to be selected by ETA), subject to applicable confidentiality and privacy statutes.

Name

Date

Title

EIN

[FR Doc. E8-24107 Filed 10-9-08; 8:45 am]

BILLING CODE 4510-FN-P